DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). We (U.S. Fish and Wildlife Service) solicit review and comment from local, State, and Federal agencies, and the public on the following permit requests.

DATES: Comments on these permit applications must be received on or before July 7, 2003 to receive our consideration.

ADDRESSES: Written data or comments should be submitted to the Chief, Endangered Species, Ecological Services, U.S. Fish and Wildlife Service, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-043628

Applicant: Institute for Applied Technology, Corvallis, Oregon.

The permittee requests an amendment to collect seeds of Erigeron decumbens var. decumbens (Willamette daisy) in conjunction with research in Polk, Benton, and Lane Counties, Oregon for the purpose of enhancing its survival.

Permit No. TE-025733

Applicant: Dynamac Corporation, Corvallis, Oregon.

The permittee requests an amendment to take (harass by survey, capture, handle, and release) the Oregon chub (Oregonichthys crameri), the White River spinedace (Lepidomeda albivallis), the shortnose sucker (Chasmistes brevirostris), and the Lost River sucker (Deltistes luxatus) in conjunction with surveys in Oregon and Nye County, Nevada for the purpose of enhancing their survival.

Permit No. TE-022230

Applicant: Jeff Kidd, Perris, California.

The permittee requests an amendment to take (harass by survey, capture, handle, and release) the Arroyo toad (Bufo californicus) in conjunction with surveys in California for the purpose of enhancing its survival.

Permit No. TE-065988

Applicant: Peninsula Open Space Trust, Menlo Park, California.

The applicant requests a permit to take (harass by survey, capture, handle, transport, and release) the San Francisco garter snake (Thamnophis sirtalis tetrataenia) in conjunction with habitat manipulation in San Mateo County, California for the purpose of enhancing its survival.

Permit No. TE-071098

Applicant: North Coast Resource Management, Calpella, California.

The applicant requests a permit to take (harass by survey, capture, handle, and release) the Sonoma County District Population Segment of the California tiger salamander (Ambystoma californiense) in conjunction with surveys in Sonoma County, California for the purpose of enhancing its survival.

Permit No. TE-018078

Applicant: Hawaii Volcanoes National Park, Hawaii National Park, Hawaii.

The permittee requests an amendment to remove/reduce to possession Argyroxiphium kauense (Mauna Loa silversword), Argyroxiphium sandwicense ssp. sandwicense ('Ahinahina), Hibiscadelphus giffardianus (hau kuahiwi), Ischaemum byrone (Hilo ischaemum), Melicope zahlbruckneri (alani), Neraudia ovata (no common name), Nothecestrum breviforum ('aiea), Plantago hawaiensis (kuahiwi laukahi), Pleomele hawaiiensis (hala pepe), Portulaca sclerocarpa (po'e), Pritchardia affinis (lo'ulu), Sesbania tomentosa ('ohai), and Sicyos alba ('anunu) in conjunction with captive propagation and outplanting throughout the range of the species in Hawaii for the purpose of enhancing their survival.

Permit No. TE-071433

Applicant: Stephanie Dunbar, Honolulu, Hawaii.

The applicant requests a permit to remove/reduce to possession Plantago princeps var. princeps, Plantago princeps var. anomala, Plantago princeps var. laxiflora, Plantago princeps var. longibracteata, and Plantago hawaiensis (all of which have the same common name kuahiwi laukahi) in conjunction with research studies throughout the range of the species in Hawaii for the purpose of enhancing their survival.

We solicit public review and comment on each of these recovery permit applications.

Dated: May 23, 2003.
David J. Wesley,
Deputy Regional Director, Region 1, U.S. Fish and Wildlife Service.

[FR Doc. 03-14130 Filed 6-4-03; 8:45 am]

BILLING CODE 4310-55-Ps